DEPARTMENT OF COMMERCE

National Oceanic and Atmospheric Administration

50 CFR Part 665

RIN 0648-AW67

Western Pacific Pelagic Fisheries; Prohibiting Purse Seine Fishing in the U.S. EEZ Around Guam and the Northern Mariana Islands, and Prohibiting Longline Fishing Within 30 nm of the Northern Mariana Islands

AGENCY: National Marine Fisheries Service (NMFS), National Oceanic and Atmospheric Administration (NOAA), Commerce.

ACTION: Notice of availability of fishery management plan amendment; request for comments.

SUMMARY: NMFS announces that the Western Pacific Fishery Management Council (Council) proposes Amendment 2 to the Fishery Ecosystem Plan for Pelagic Fisheries of the Western Pacific Region (FEP). If approved by the Secretary of Commerce, this amendment would create a 30-nautical mile (nm) longline prohibited area around the Commonwealth of the Northern Mariana Islands (CNMI), and prohibit purse seine fishing within the entire U.S. Exclusive Economic Zone (EEZ) around the Mariana Archipelago, including Guam and the CNMI. The area closures are intended to prevent and minimize gear conflicts and resource competition among the various fishery sectors (troll, longline and purse seine) in the Mariana Archipelago. In addition, this action is intended to facilitate the conservation of important stocks such as bigeye, yellowfin, and skipjack tuna throughout their range in the Pacific Ocean.

DATES: Comments on the amendment must be received by May 10, 2011.

ADDRESSES: Copies of Amendment 2, including an environmental assessment, are available from http://www.regulations.gov, or the Council, 1164 Bishop St., Suite 1400, Honolulu, HI 96813, tel 808-522-8220, fax 808-522-8226, http://www.wpcouncil.org.

Comments on the amendment, including the environmental assessment, identified by 0648-AW67, may be sent to either of the following addresses:

• Electronic Submission: Submit all electronic public comments via the Federal e-Rulemaking Portal http://www.regulations.gov; or

• Mail: Mail written comments to Michael D. Tosatto, Regional Administrator, NMFS, Pacific Islands Region (PIR), 1601 Kapiolani Blvd., Suite 1110, Honolulu, HI 96814-4700.

Instructions: Comments must be submitted to one of the above two addresses to ensure that the comments are received, documented, and considered by NMFS. Comments sent to any other address or individual, or received after the end of the comment period, may not be considered. All comments received are a part of the public record and will generally be posted to http://www.regulations.gov without change. All personal identifying information (e.g., name, address, etc.) submitted voluntarily by the sender may be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

FOR FURTHER INFORMATION CONTACT: Toby Wood, NMFS PIR Sustainable Fisheries, 808-944-2234.

SUPPLEMENTARY INFORMATION: Pelagic fisheries in the U.S. western Pacific are managed under the FEP. The Council prepared Amendment 2 to address pelagic fishing concerns in the Mariana Archipelago (Guam and the CNMI). Pelagic fisheries in the Marianas consist mostly of small trolling fleets, several pelagic longline vessels, and purse seine vessels based there, but not fishing near the islands. Guam's pelagic fishery consists of 300-400 mostly small trolling boats that catch skipjack tuna, yellowfin tuna, mahimahi, wahoo, and Pacific blue marlin. Trolling is also the primary fishing method in the CNMI pelagic fishery. About 50-100 small vessels target skipjack tuna, and also catch yellowfin tuna and mahimahi.

Pelagic longline vessels in the Marianas are typically larger than 50 ft (15 m) and can fish for more than 30 days. Interest in the longline fishery has been variable; currently four Federally-permitted longline vessels are based in the CNMI and one is based in Guam. Longliners target yellowfin and bigeye tunas and retain incidental catches of albacore, blue marlin, mahimahi, skipjack tuna, and spearfish.

About 36 U.S. purse seine vessels operate in the western and central Pacific Ocean, targeting skipjack and yellowfin tuna. Vessels range from 164 to 377 ft (50 to 115 m). Fish-carrying capacities range from approximately 800 to 1,500 mt (2.2 to 3.9 million lb). The U.S. purse seine catch in the western Pacific is made on the high seas, in foreign EEZs, and in the U.S. EEZ around American Samoa and the U.S. Pacific Remote Island Areas (i.e., Wake, Baker, Howland, and Jarvis Islands, Johnston Atoll, Kingman Reef, and Palmyra Atoll). Two U.S. purse seine vessels are based in Guam, but have not fished in the EEZ around the Mariana Archipelago. To date, limited purse seine activity has occurred adjacent to the EEZ around Guam since 1980, but no U.S. purse seine catches have been recorded within the EEZ.

The Council is concerned about the potential impacts if purse seine fishing effort shifts to areas fished by domestic troll and longline fishermen of Guam and the CNMI. Those smaller vessels could experience reduced catch rates due to localized depletion and catch competition, or would have to travel further to maintain catch rates, potentially resulting in lost revenue and possible safety-at-sea issues.

The Council is also concerned about the impact of purse seine fishing on the recruitment of juvenile bigeye tuna. While targeting skipjack tuna, purse seines may also catch juvenile yellowfin and bigeye tuna. Juvenile bigeye tuna caught by purse seines may be contributing to the overfishing status of bigeye tuna in the western and central Pacific Ocean. The impacts from an increase in juvenile catch of bigeye tuna can reduce the number of mature fish, thereby decreasing reproduction. This also decreases the future availability of adult fish for fisheries that target adult bigeye tuna, such as the longline fishery.

The Council is further concerned that any future expansion of longline fishing around the Mariana Archipelago could result in adverse impacts to the CNMI troll fishery. If the number of CNMI-based longline vessels increases and move into areas traditionally utilized by the troll fleet (typically within 30 nm (55.6 km) of shore), there is potential for gear conflicts and catch competition between the two fleets, resulting in potential gear loss, increased costs, and decreased revenues.

To address their concerns about the potential impact of purse seine fishing on the troll and longline fisheries in the Marianas, the Council recommends in Amendment 2 prohibiting U.S. purse seine vessels from fishing within the EEZ around Guam and the CNMI. Furthermore, under Amendment 2, to address their concerns about the potential impact of uncontrolled expansion in the CNMI longline fishery, the Council recommends prohibiting longline fishing within 30 nm (55.6 km) of the CNMI. The Council's recommendations are intended to reduce temporary localized fish depletion, catch competition, and gear conflicts to sustain local troll and longline fisheries, and to limit the potential impacts of purse seine fishing on recruitment of juvenile bigeye tuna.

Public comments on proposed Amendment 2 must be received by May 10, 2011 to be considered by NMFS in the decision to approve, partially approve, or disapprove the amendment. NMFS expects to soon publish and request public comment on a proposed rule that would implement the measures recommended in Amendment 2.

Authority: 16 U.S.C. 1801 et seq.

Dated: March 8, 2011.
Emily H. Menashes,
Acting Director, Office of Sustainable Fisheries, National Marine Fisheries Service.

[FR Doc. 2011-5683 Filed 3-10-11; 8:45 am]

BILLING CODE 3510-22-P